DEPARTMENT OF HOMELAND SECURITY

Coast Guard

33 CFR Part 100

[CGD05-05-020]

RIN 1625-AA08

Special Local Regulations for Marine Events; Piankatank River, Gloucester County, VA

AGENCY: Coast Guard, DHS.

ACTION: Notice of proposed rulemaking; withdrawal.

SUMMARY: The Coast Guard is withdrawing its notice of proposed rulemaking concerning the “2005 Piankatank River Race”. Pursuant to 33 CFR 100.25, the marine event permit application for a powerboat race to be held on the Piankatank River in Virginia on July 23, 2005 was disapproved.

DATES: The notice of proposed rulemaking is withdrawn on August 12, 2005.

FOR FURTHER INFORMATION CONTACT: Dennis Sens, Project Manager, Auxiliary and Recreational Boating Safety Branch, at (757) 398-6204.

SUPPLEMENTARY INFORMATION:

Background

On March 29, 2005, we published a notice of proposed rulemaking entitled “Special Local Regulations for Marine Events; Piankatank River, Gloucester County, VA” in the Federal Register (70 FR 15788). The rulemaking concerned a proposal to establish special local regulations during the “2005 Piankatank River Race”, a marine event to be held over the waters of the Piankatank River in Gloucester County, Virginia. Special local regulations are necessary to provide for the safety of life on navigable waters during the event.

Withdrawal

We have decided to withdraw this project after safety and environmental review. All comments and documents received in this docket will be available for use in future rulemakings.

This action is taken under the authority of 33 U.S.C. 1233; Department of Homeland Security Delegation No. 0170.1.

Dated: August 2, 2005.
S. Ratti,
Captain, U.S. Coast Guard, Commander, Fifth Coast Guard District, Acting.

[FR Doc. 05-16018 Filed 8-11-05; 8:45 am]

BILLING CODE 4910-15-U